DEPARTMENT OF HEALTH AND HUMAN SERVICES

National Institutes of Health

Center for Scientific Review; Amended Notice of Meeting

Notice is hereby given of a change in the meeting of the Center for Scientific Review Special Emphasis Panel, March 2, 2011, 8 a.m. to March 3, 2011, 5 p.m., National Institutes of Health, 6701 Rockledge Drive, Bethesda, MD, 20892 which was published in the Federal Register on January 28, 2011, 76 FR 5182-5183.

The meeting title has been changed to “PAR: Collaboration with NCBCs”. The meeting is closed to the public.

Dated: February 16, 2011.
Jennifer S. Spaeth,
Director, Office of Federal Advisory Committee Policy.

[FR Doc. 2011-4039 Filed 2-22-11; 8:45 am]

BILLING CODE 4140-01-P